DEPARTMENT OF TRANSPORTATION

Federal Aviation Administration

14 CFR Part 39

[Docket No. 99-NM-379-AD; Amendment 39-11934; AD 2000-21-02]

RIN 2120-AA64

Airworthiness Directives; Airbus Model A330 and A340 Series Airplanes

AGENCY: Federal Aviation Administration, DOT.

ACTION: Final rule.

SUMMARY: This amendment adopts a new airworthiness directive (AD), applicable to certain Airbus Model A330 and A340 series airplanes, that requires revising the Airplane Flight Manual to include new flight operational procedures for the fuel system; repetitive inspections of the trim transfer fuel line in the vicinity of the aft pressure bulkhead located between frame (FR) 77 and FR86 to detect any discrepancy; and corrective actions, if necessary. This amendment also requires modification of the air release valve in the fuel trim tank transfer system, which constitutes terminating action for the requirements of this AD. This amendment is prompted by issuance of mandatory continuing airworthiness information by a foreign civil airworthiness authority. The actions specified by this AD are intended to prevent damage to the fuel trim transfer system, which could cause rupture of the trim transfer fuel line due to pressure build-up, and result in fuel leakage from that fuel line. This action is intended to address the identified unsafe condition.

DATES: Effective November 24, 2000.

The incorporation by reference of certain publications listed in the regulations is approved by the Director of the Federal Register as of November 24, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus Model A330 and A340 series airplanes was published in the Federal Register on June 28, 2000 (65 FR 39825). That action proposed to require revising the Airplane Flight Manual (AFM) to include new flight operational procedures for the fuel system; repetitive inspections of the trim transfer fuel line in the vicinity of the aft pressure bulkhead located between frame (FR) 77 and FR86 to detect any discrepancy; and corrective actions, if necessary. That action also proposed to require modification of the air release valve in the fuel trim tank transfer system, which would constitute terminating action for the requirements of this AD.

Comments

Interested persons have been afforded an opportunity to participate in the making of this amendment. No comments were submitted in response to the proposal or the FAA's determination of the cost to the public.

Conclusion

The FAA has determined that air safety and the public interest require the adoption of the rule as proposed.

Cost Impact

The FAA estimates that 3 Airbus Model A330 series airplanes of U.S. Registry will be affected by this AD.

It will require approximately 1 work hour to accomplish the revision to the AFM, at an average labor rate of $60 per work hour. Based on this figure, the cost impact of the AFM revision required by this AD action will be $180, or $60 per airplane.

It will require approximately 2 work hours to accomplish each inspection, at an average labor rate of $60 per work hour. Based on this figure, the cost impact of each inspection required by this AD action will be $360, or $120 per airplane.

It will require approximately 3 work hours to accomplish the installation of the additional pressure relief valves in the fuel trim tank, at an average labor rate of $60 per work hour. Based on this figure, the cost impact of the installation required by this AD action will be $540, or $180 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-21-02 Airbus Industrie: Amendment 39-11934. Docket 99-NM-379-AD.

Applicability: Model A330 and A340 series airplanes, certificated in any category, except those airplanes on which Airbus Modification 47293 has been installed in production, or on which the modification has been accomplished in accordance with Airbus Service Bulletin A330-28-3063 or A340-28-4079, both dated October 6, 1999; as applicable.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent damage to the fuel trim transfer system, which could cause rupture of the trim transfer fuel line due to pressure build-up, and result in fuel leakage from that line; accomplish the following:

Airplane Flight Manual Revision

(a) Within 10 days after the effective date of this AD, revise the Limitations and Normal Procedures section of the FAA-approved Airplane Flight Manual (AFM) to include the information specified in Airbus Temporary Revision (TR) 4.03.00/09, TR 4.03.00/10, and TR 4.03.00/12 (for Model A330 series airplanes); or TR 4.03.00/20 (for Model A340 series airplanes); all dated July 23, 1999; as applicable.

Note 2: The AFM revision required by paragraph (a) of this AD may be accomplished by inserting a copy of the applicable TR into the applicable section of the AFM. When the temporary revisions required by paragraph (a) of this AD have been incorporated into the general revisions of the AFM, the general revisions may be inserted into the AFM, provided that the information contained in the general revisions is identical to that specified in the temporary revisions.

Inspections

(b) Within 1,000 flight hours after the effective date of this AD, perform a detailed visual inspection of the trim transfer fuel line in the vicinity of the aft pressure bulkhead located between frame (FR) 77 and FR86 to detect any discrepancy (including deformation, dents, kinks, and broken rivets of the fuel pipe and pipe clamp, support bracket, and shroud) in accordance with the Accomplishment Instructions of Airbus Service Bulletin A330-28-3060, Revision 02 (for Model A330 series airplanes), or A340-28-4077, Revision 02 (for Model A340 series airplanes), both dated May 27, 1999, as applicable. Repeat the inspection thereafter at intervals not to exceed 1,000 flight hours until the modification required by paragraph (c) of this AD has been accomplished.

Note 3: Inspections accomplished prior to the effective date of this AD in accordance with Operator Information Telex/Flight Operations Telex (OIT/FOT) 999.0142/98, dated December 23, 1998, are considered acceptable for compliance with the INITIAL detailed visual inspection required by paragraph (b) of this AD.

Corrective Actions

(1) If any discrepancy is detected during any inspection required by paragraph (b) of this AD, prior to further flight, accomplish applicable corrective actions [including replacement of any damaged components and deactivation of the trim fuel pipe isolation valve and auxiliary power unit (APU) isolation valve] in accordance with the Accomplishment Instructions and Figure 2 of the applicable service bulletin.

Replacement of Pipe Shroud and Pipe

(2) If the isolation valves of the trim fuel pipe and APU are deactivated in accordance with the FAA-approved Master Minimum Equipment List during accomplishment of the corrective actions required by paragraph (b)(1) of this AD: Within 10 days after deactivation, replace the pipe shroud and pipe, as applicable, and reactivate the valves, in accordance with the applicable service bulletin.

Terminating Action

(c) Within 18 months after the effective date of this AD, modify the air release valve (ARV) in the trim tank system (including cleaning and lubricating certain components, installing two additional pressure relief valves, and installing the adapter and ARV) in accordance with the Accomplishment Instructions of Airbus Service Bulletin A330-28-3063 or A340-28-4079, both dated October 6, 1999, as applicable. Accomplishment of such modification constitutes terminating action for the AFM revisions and the repetitive inspections required by this AD.

Alternative Methods of Compliance

(d) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(e) Special flight permits may be issued in accordance with §§ 21.197 and 21.199 of the Federal Aviation Regulations (14 CFR 21.197 and 21.199) to operate the airplane to a location where the requirements of this AD can be accomplished.

Incorporation by Reference

(f) The actions shall be done in accordance with Airbus Temporary Revision 4.03.00/09, dated July 23, 1999; Airbus Temporary Revision 4.03.00/10, dated July 23, 1999; Airbus Temporary Revision 4.03.00/12, dated July 23, 1999; Airbus Temporary Revision 4.03.00/20, dated July 23, 1999; Airbus Service Bulletin A330-28-3060, Revision 02, including Appendix 01, dated May 27, 1999; Airbus Service Bulletin A340-28-4077, Revision 02, including Appendix 01, dated May 27, 1999; Airbus Service Bulletin A330-28-3063, dated October 6, 1999; and Airbus Service Bulletin A340-28-4079, dated October 6, 1999; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directives 1999-046-091(B), Revision 4 (for Model A330 series airplanes), and 1999-045-111(B), Revision 4 (for Model A340 series airplanes), both dated December 15, 1999.

Effective Date

(g) This amendment becomes effective on November 24, 2000.

Issued in Renton, Washington, on October 12, 2000.
Donald L. Riggin,
Acting Manager, Transport Airplane Directorate, Aircraft Certification Service.

[FR Doc. 00-26709 Filed 10-19-00; 8:45 am]

BILLING CODE 4910-13-P